DEPARTMENT OF LABOR

Office of the Secretary

Agency Information Collection Activities; Submission for OMB Review; Comment Request; Proposed Quarterly Census of Employment and Wages Green Goods and Services Survey

ACTION: Notice.

SUMMARY: The Department of Labor (DOL) hereby announces the submission of the proposed Bureau of Labor Statistics (BLS) sponsored information collection request (ICR) titled, “Quarterly Census of Employment and Wages Green Goods and Services Survey,” to the Office of Management and Budget (OMB) for review and approval for use in accordance with the Paperwork Reduction Act of 1995 (Pub. L. 104-13, 44 U.S.C. chapter 35).

DATES: Submit comments on or before March 28, 2011.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an e-mail to DOL_PRA_PUBLIC@dol.gov.

Submit comments about this request to the Office of Information and Regulatory Affairs, Attn: OMB Desk Officer for the Department of Labor, Bureau of Labor Statistics (BLS), Office of Management and Budget, Room 10235, Washington, DC 20503, Telephone: 202-395-7314/Fax: 202-395-6881 (these are not toll-free numbers), e-mail: OIRA_submission@omb.eop.gov.

FOR FURTHER INFORMATION CONTACT: Michel Smyth by telephone at 202-693-4129 (this is not a toll-free number) or by e-mail at DOL_PRA_PUBLIC@dol.gov.

SUPPLEMENTARY INFORMATION: The proposed Quarterly Census of Employment and Wages Green Goods and Services Survey is intended to collect data on green goods and services sector industry employment. The data collection will measure employment in green industries. It will help policymakers understand the size and growth opportunities in this developing sector of jobs and will be key to analyzing workforce trends in this area.

This proposed information collection is subject to OMB approval under the PRA. A Federal agency generally cannot conduct or sponsor a collection of information, and the public is generally not required to respond to an information collection, unless it is currently approved by the OMB under the PRA and displays a currently valid OMB Control Number. In addition, notwithstanding any other provisions of law, no person shall generally be subject to penalty for failing to comply with a collection of information if the collection of information does not display a currently valid OMB control number. See 5 CFR 1320.5(a) and 1320.6. For additional information, see the related notice published in the Federal Register on November 10, 2010 (75 FR 69128).

Interested parties are encouraged to send comments to the OMB, Office of Information and Regulatory Affairs at the address shown in the ADDRESSES section within 30 days of publication of this notice in the Federal Register. In order to ensure appropriate consideration, comments should reference ICR Reference Number 201011-1220-002. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics (BLS).

Title of Collection: Quarterly Census of Employment and Wages Green Goods and Services Survey.

ICR Reference Number: 201011-1220-002.

Affected Public: Federal Government; Private sector—businesses or other for-profits, not-for-profit institutions, and farms; and State local, and tribal governments.

Total Estimated Number of Respondents: 120,000.

Total Estimated Number of Responses: 120,000.

Total Estimated Annual Burden Hours: 31,000

Total Estimated Annual Costs Burden: $0.

Dated: February 3, 2011.
Michel Smyth,
Departmental Clearance Officer.

[FR Doc. 2011-4052 Filed 2-23-11; 8:45 am]

BILLING CODE 4510-24-P